DEPARTMENT OF COMMERCE

National Oceanic and Atmospheric Administration

[I.D. 011806E]

Pacific Fishery Management Council; Public Meeting

AGENCY: National Marine Fisheries Service (NMFS), National Oceanic and Atmospheric Administration (NOAA), Commerce.

ACTION: Notice of public meetings.

SUMMARY: The Pacific Fishery Management Council's (Council) Groundfish Management Team (GMT) and Groundfish Allocation Committee (Committee) will hold working meetings, which are open to the public.

DATES: The GMT meeting will be held Monday, February 6, 2006, from 8:30 a.m. until business for the day is completed. The GMT will reconvene Tuesday, February 7, 2006 at 8:30 a.m. until 1 p.m., when both the GMT and Committee will meet until business for the day is completed. The GMT and Committee meeting will reconvene on Wednesday, February 8 and Thursday, February 9 at 8:30 a.m. each day until business for each day is completed. The GMT will reconvene on Friday, February 10, 2006 at 8:30 a.m. and continue until their business is completed.

ADDRESSES: The GMT and Committee meetings will be held at the Red Lion Hotel—Convention Center, St. Johns Room, 1021 NE Grand Avenue, Portland, OR 97232. Telephone: 503-235-2100.

Council address: Pacific Fishery Management Council, 7700 NE Ambassador Place, Suite 200, Portland, Oregon 97220-1384.

FOR FURTHER INFORMATION CONTACT: Mr. John DeVore, Groundfish Management Coordinator; telephone: 503-820-2280.

SUPPLEMENTARY INFORMATION: The purpose of the GMT and Committee meetings are to develop 2007-2008 Pacific Coast groundfish fishery allocation options and other management measure alternatives for analysis. The GMT and Committee will discuss the types of provisions that may be necessary to prevent further overfishing, to reduce bycatch of depleted species in the various groundfish fisheries, and to reduce bycatch in non-groundfish fisheries, while considering the needs of West Coast fishing communities. No management actions will be decided by the GMT or Committee. The GMT's role and that of the Committee will be development of recommendations and alternatives for analysis for consideration by the Council at its April 2006 meeting in Sacramento, California.

Although nonemergency issues not contained in the meeting agenda may come before the GMT or the Committee for discussion, those issues may not be the subject of formal GMT or Committee action during this meeting. GMT or Committee action will be restricted to those issues specifically listed in this notice and any issues arising after publication of this notice that require emergency action under Section 305(c) of the Magnuson-Stevens Fishery Conservation and Management Act, provided the public has been notified of the Committee's intent to take final action to address the emergency.

Special Accommodations

This meeting is physically accessible to people with disabilities. Requests for sign language interpretation or other auxiliary aids should be directed to Ms. Carolyn Porter at 503-820-2280 at least five days prior to the meeting date.

Dated: January 18, 2006.
Emily Menashes,
Acting Director, Office of Sustainable Fisheries, National Marine Fisheries Service.

[FR Doc. E6-730 Filed 1-20-06; 8:45 am]

BILLING CODE 3510-22-S